DEPARTMENT OF THE INTERIOR

Fish and Wildlife Service

[Docket No. FWS-R4-ES-2018-0079; FXES11140400000-178-FF04EF2000]

Eastern Collier Property Owners, LLC, Multi-Species Habitat Conservation Plan and Draft Environmental Impact Statement, Collier County, Florida

AGENCY: Fish and Wildlife Service, Interior.

ACTION: Notice of availability; request for comments.

SUMMARY: We, the U.S. Fish and Wildlife Service, announce the availability of our draft environmental impact statement (EIS) and a habitat conservation plan (HCP) associated with the incidental take permit (ITP) applications of eleven Collier County landowners under the Endangered Species Act of 1973, as amended. Each of the eleven landowners, collectively known as the Eastern Collier Property Owners, LLC, requests a 50-year ITP authorizing take of the Florida panther and 18 other Federal or State-listed species incidental to residential and commercial development, earth mining, and low-intensity rural-land activities in a defined portion of Collier County, Florida.

DATES: Comments: We will accept comments received or postmarked on or before December 3, 2018. Comments submitted electronically at http://www.regulations.gov must be received by 11:59 p.m. Eastern time on the closing date. Any comments we receive after the closing date may not be considered in the final decision on these actions.

ADDRESSES:

Obtain Documents: You may obtain copies of the EIS and HCP by the following methods:

Internet: http://www.regulations.gov (search for Docket No. FWS-R4-ES-2018-0079).

Field Office: https://www.fws.gov/verobeach/.

Submit Comments: You may submit written comments by one of the following methods:

Internet: http://www.regulations.gov. Follow the instructions for submitting comments on Docket No. FWS-R4-ES-2018-0079.

Hard Copy: Via U.S. mail or hand-delivery to Public Comments Processing, Attn: FWS-R4-ES-2018-0079; U.S. Fish and Wildlife Service Headquarters, MS: BPHC; 5275 Leesburg Pike, Falls Church, VA 22041-3803.

Review Public Comments: Submitted comments may be viewed at http://www.regulations.gov in Docket No. FWS-R4-ES-2018-0079.

FOR FURTHER INFORMATION CONTACT: Mr. David Dell, Regional HCP Coordinator, by mail at Attn: ECPO; U.S. Fish and Wildlife Service; 1875 Century Boulevard, Atlanta, GA 30345 or by telephone at 404-679-7313, or Dr. Constance Cassler, Supervisory Fish and Wildlife Biologist, by mail at the South Florida Ecological Services Office, Attn: ECPO; U.S. Fish and Wildlife Service, 1339 20th Street, Vero Beach, FL 32960 or by telephone at 772-469-4356.

SUPPLEMENTARY INFORMATION: We, the U.S. Fish and Wildlife Service (Service), have received applications for ITPs under the Endangered Species Act of 1973, as amended (ESA; 16 U.S.C. 1531 et seq.).

Applicants

The Eastern Collier Property Owners, LLC (ECPO/Applicants) was formed as a collaborative effort to address long-term land-use planning and conservation issues related to the Florida panther in the east Collier County area (see also http://www.floridapantherprotection.com). The Applicants' collaboration culminated in the HCP, which supports their collective application for the issuance of 50-year ITPs for take of the Florida panther and 18 other covered species. Table 1, below, individually lists the ECPO members and their Service-assigned application numbers. Table 2 depicts the species covered by the HCP.

Table 1—Members of Eastern Collier Property Owners, LLC, and Their Incidental Take Permit Application Numbers
Applicants | Permit application Nos.
Alico Land Development, Inc | TE05647D-0
Barron Collier Investment, Ltd | TE04440D-0
Collier Enterprises Management, Inc | TE04443D-0
Consolidated Citrus Limited Partnership | TE04471D-0
English Brothers Partnership | TE04152D-0
Half Circle L Ranch, LLP | TE05238D-0
Heller Bros. Packing Corp | TE05668D-0
JB Ranch I, LLC | TE04473D-0
Owl Hammock Immokalee, LLC | TE06114D-0
Pacific Land, Ltd | TE05665D-0
Sunniland Family Limited Partnership | TE04472D-0

Table 2—HCP-Covered Wildlife Species and Their Protected Status
Status | Common name | Scientific name
Listed as endangered under the ESA | Florida panther | Puma concolor coryi.
| Florida bonneted bat | Eumops floridanus.
| Red-cockaded woodpecker | Picoides borealis.
| Everglade snail kite | Rostrhamus sociabilis plumbeus.
Listed as threatened under the ESA | Wood stork | Mycteria americana.
| Northern crested caracara | Caracara cheriway.
| Florida scrub jay | Aphelocoma coerulescens.
| Eastern indigo snake | Drymarchon corais couperi.
Candidate Species or Species under review for Federal listing | Gopher tortoise | Gopherus polyphemus.
| Eastern diamondback rattlesnake | Crotalus adamanteus.
| Gopher frog | Lithobates capito.
State-listed species | Big Cypress fox squirrel | Sciurus niger avicennia.
| Everglades mink | Neovison vison evergladensis.
| Burrowing owl | Athene cunicularia.
| Florida sandhill crane | Antigone canadensis pratensis.
| Little blue heron | Egretta caerulea.
| Roseate spoonbill | Platalea ajaja.
| Southeastern American kestrel | Falco sparverius Paulus.
| Tricolored heron | Egretta tricolor.

Background

Section 9 of the ESA and its implementing regulations prohibit “take” of Federally-listed “threatened” or “endangered” fish and wildlife species. However, section 10(a) of the Act provides exceptions to the prohibition by allowing us to issue permits authorizing take of listed species where such take is incidental to, and not the purpose of, otherwise lawful activities and where the applicant meets certain statutory requirements.

The Applicants' HCP proposes a programmatic approach and framework for engaging in incidental take of the covered species while providing for the permanent protection of portions of the covered lands via conservation easements and generating funding for conservation activities for the covered species in addition to those provided in the HCP. The individual Applicants collectively own a total of 151,779 acres within the approximately 174,000-acre HCP planning area. Under the HCP, up to 45,000 acres could be developed or used for other activities. Impacts to covered species from the activities would be mitigated through habitat management measures and the placement of conservation easements on up to 107,000 acres of the covered lands. The Applicants also propose to make contributions to a conservation endowment, the Marinelli Fund, to implement conservation measures for the covered species throughout and beyond the covered lands.

Draft Environmental Impact Statement

We published a notice of intent to prepare an EIS for this HCP in the Federal Register on March 25, 2016 (81 FR 16200). A public scoping meeting was held in Naples, Florida on April 12, 2016, and an online public participation webcast was conducted on April 19, 2016. We have incorporated issues identified during these scoping meetings into the draft EIS. A summary of the comments received during the scoping period is provided in the Scoping Report appended to the draft EIS.

The draft EIS assesses the likely environmental impacts associated with the implementation of the activities proposed in the HCP, compared to the likely consequences of not issuing the requested ITPs, i.e., uncoordinated project-by-project and lot-by-lot planning and mitigation as currently occurs. The Department of the Army, through its bureau the U.S. Army Corps of Engineers, Jacksonville District, is a cooperating agency in the development of the draft EIS.

Public Comments

If you wish to comment on the HCP, or draft EIS, you may submit comments by any one of the methods listed above in ADDRESSES. Before including your address, phone number, email address, or other personal identifying information in your comment, be aware that your entire comment—including your personal identifying information—may be made available to the public at any time. While you may request in your comment that we withhold your personal identifying information, we cannot guarantee that we will be able to do so.

Next Steps

We will evaluate the HCP, draft EIS, and your comments to determine whether the collective ITP application meets the permit issuance requirements of section 10(a) of the ESA. We will also conduct an intra-Service consultation pursuant to section 7 of the ESA. If the requirements for permit issuance are met, we will issue individual ITPs to the Applicants.

Authority

We provide this notice under section 10 of the ESA (16 U.S.C. 1531 et seq.) and ESA regulations in title 50 of the Code of Federal Regulations and, the National Environmental Policy Act (NEPA; 42 U.S.C. 4321 et seq.) and NEPA regulations (40 CFR 1506.6).

Mike Oetker,
Acting Regional Director, Southeast Region.

[FR Doc. 2018-22755 Filed 10-18-18; 8:45 am]

BILLING CODE 4333-15-P